DEPARTMENT OF THE INTERIOR

Bureau of Land Management

[OR-958-6333-ET; GPO-0342; OR-19145]

Public Land Order No. 7468; Partial Revocation of Secretarial Order Dated January 21, 1927; Oregon

AGENCY: Bureau of Land Management, Interior.

ACTION: Public Land Order.

SUMMARY: This order partially revokes a Secretarial order insofar as it affects 280 acres of National Forest System lands withdrawn by the Bureau of Land Management for use as Power Site Classification No. 164. The lands are no longer needed for the purpose for which they were withdrawn. This action will open the lands to such forms of disposition as may by law be made of National Forest System lands. All of the lands have been and will remain open to mining and mineral leasing subject to other segregations of record.

EFFECTIVE DATE: November 13, 2000.

FOR FURTHER INFORMATION CONTACT: Allison O'Brien, BLM Oregon/Washington State Office, P.O. Box 2965, Portland, Oregon 97208-2965, 503-952-6171.

By virtue of the authority vested in the Secretary of the Interior by Section 204 of the Federal Land Policy and Management Act of 1976, 43 U.S.C. 1714 (1994), it is ordered as follows:

1. The Secretarial Order dated January 21, 1927, which established Bureau of Land Management Power Site Classification No. 164, is hereby revoked insofar as it affects the following described lands:

Willamette Meridian

T. 16 S., R. 5 E.,

Sec. 24, W½NE¼.

T. 16 S., R. 6 E.,

Sec. 21, SE¼SE¼;

Sec. 22, SW¼SW¼;

Sec. 27, W½NW¼;

Sec. 28, NE¼NE¼.

The areas described aggregate 280 acres in Lane County.

2. At 8:30 a.m. on November 13, 2000, the lands described in paragraph 1 shall be opened to such forms of disposition as may by law be made of National Forest System lands, subject to valid existing rights, the provisions of existing withdrawals, other segregations of record, and the requirements of applicable law.

Dated: October 20, 2000.
Sylvia V. Baca,
Assistant Secretary of the Interior.

[FR Doc. 00-27624 Filed 10-26-00; 8:45 am]

BILLING CODE 4310-33-P